ENVIRONMENTAL PROTECTION AGENCY

[FRL-9192-1]

Science Advisory Board Staff Office; Notification of a Public Teleconference of the Clean Air Scientific Advisory Committee (CASAC) Ambient Air Methods and Monitoring Subcommittee (AAMMS)

AGENCY: Environmental Protection Agency (EPA).

ACTION: Notice.

SUMMARY: The Environmental Protection Agency (EPA or Agency) Science Advisory Board (SAB) Staff Office is announcing a public teleconference on September 15, 2010, of the Clean Air Scientific Advisory Committee (CASAC) Ambient Air Monitoring & Methods Subcommittee (AAMMS or Subcommittee) to provide advice on EPA's white paper, Approach for the Development of a New Federal Reference Method for Lead (Pb) in Total Suspended Particulates (TSP).

DATES: The teleconference will be held on Wednesday, September 15, 2010 from 10 a.m. to 2 p.m. (Eastern Time).

ADDRESSES: The teleconference will be conducted by phone only.

FOR FURTHER INFORMATION CONTACT: Any member of the public who wishes to submit a written or brief oral statement or wants further information concerning the teleconference may contact Mr. Aaron Yeow, Designated Federal Officer (DFO), EPA Science Advisory Board (1400R), U.S. Environmental Protection Agency, 1200 Pennsylvania Avenue, NW., Washington, DC 20460; via telephone/voice mail (202) 564-2050; fax (202) 565-2098; or e-mail at yeow.aaron@epa.gov. General information concerning the CASAC and the CASAC documents can be found on the EPA Web site at http://www.epa.gov/casac.

SUPPLEMENTARY INFORMATION: Background: Pursuant to the Federal Advisory Committee Act, Public Law 92-463 5 U.S.C., App. 2 (FACA), notice is hereby given that the CASAC AAMMS will hold a public meeting to provide advice on EPA's white paper, Approach for the Development of a New Federal Reference Method for Lead (Pb) in Total Suspended Particulates (TSP). The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC AAMMS will comply with the provisions of FACA and all appropriate SAB Staff Office procedural policies.

Section 109(d)(1) of the CAA requires that the Agency periodically review and revise, as appropriate, the air quality criteria and the NAAQS for the six “criteria” air pollutants, including lead. In November 2008, EPA published the final rule for the NAAQS for lead (73 FR 66934), revising the primary standard from 1.5 µg/m³ to 0.15 µg/m³, and setting the secondary standard equal to the primary standard. The indicator for the Lead NAAQS did not change and remains as lead in total suspended particles (Pb-TSP). The Federal Reference Method (FRM) for Pb-TSP (40 CFR part 50, Appendix G) was promulgated in 1979 and is based on Flame Atomic Absorption Spectroscopy (FAAS). There is a need for a new FRM due to advances in analytical measurement technologies, such as improved analytical sensitivity, more efficient extraction methods, and new analytical instrumentation. EPA has developed the white paper, Approach for the Development of a New Federal Reference Method (FRM) for Lead (Pb) in Total Suspended Particles (TSP), which outlines the approach for the development a new FRM for lead. The AAMMS has been asked to provide advice on several issues in the white paper including: Extraction methods, analytical methods, validation and testing, and inter-laboratory variability.

Technical Contacts: Any technical questions concerning EPA's white paper can be directed to Ms. Joann Rice, OAQPS, at rice.joann@epa.gov or (919) 541-3372.

Availability of Meeting Materials: The Agency review document is posted on the EPA Technology Transfer Network Web site on the respective page for Ambient Monitoring Technology Information Center at http://www.epa.gov/ttn/amtic/casacinf.html. Prior to the teleconference, the agenda and other materials for the CASAC AAMMS teleconference will be accessible through the calendar link on the blue navigation bar at http://www.epa.gov/casac/.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a Federal advisory committee to consider as it develops advice for EPA. They should send their comments directly to the Designated Federal Officer for the relevant advisory committee. Oral Statements: In general, individuals or groups requesting an oral presentation at a public teleconference will be limited to three minutes per speaker. Each person making an oral statement should consider providing written comments as well as their oral statement so that the points presented orally can be expanded upon in writing. Interested parties should contact Mr. Aaron Yeow, DFO, in writing (preferably via e-mail) at the contact information noted above by September 8, 2010 to be placed on the list of public speakers. Written Statements: Written statements should be supplied to the DFO via email at the contact information noted above by September 8, 2010 for the teleconference so that the information may be made available to the AAMMS members for their consideration. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Mr. Yeow at the phone number or e-mail address noted above, preferably at least ten days prior to the meeting, to give EPA as much time as possible to process your request.

Dated: August 16, 2010.
Anthony F. Maciorowski,
Deputy Director, EPA Science Advisory Board Staff Office.

[FR Doc. 2010-20840 Filed 8-20-10; 8:45 am]

BILLING CODE 6560-50-P